DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Statement of Financial Interests, Regional Fishery Management Councils.

Form Number(s): NOAA Form 88-195.

OMB Approval Number: 0648-0192.

Type of Request: Regular submission.

Burden Hours: 194.

Number of Respondents: 332.

Average Hours Per Response: 35 minutes.

Needs and Uses: Section 302(j) of the Magnuson-Stevens Fishery Conservation and Management Act requires that Council members appointed by the Secretary, Scientific and Statistical Committee members appointed by a Council, or individuals nominated by the Governor of a State for possible appointment as a Council member disclose their financial interest in any Council fishery. These interests include harvesting, processing, lobbying, advocacy, or marketing activity that is being, or will be, undertaken within any fishery over which the Council concerned has jurisdiction.

Affected Public: Individuals or households.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 6, 2007.
Gwellnar Banks,
Management Analyst, Office of the Chief Information Officer.

[FR Doc. E7-17921 Filed 9-11-07; 8:45 am]

BILLING CODE 3510-22-P